NATIONAL AERONAUTICS AND SPACE ADMINISTRATION

[Notice (13-052)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 20, 2013.

FOR FURTHER INFORMATION CONTACT: Robert M. Padilla, Patent Counsel, Ames Research Center, Code 202A-4, Moffett Field, CA 94035-1000; telephone (650) 604-5104; fax (650) 604-2767.

NASA Case No.: ARC-16833-1: Flight Deck Predictive Weather Display and Decision Support Interface;

NASA Case No.: ARC-16337-1: Method and Device for Biometric Subject Verification and Identification Based Upon Electrocardiographic Signals;

NASA Case No.: ARC 16812-1: Graphene Composite Materials for Supercapacitor Electrodes;

NASA Case No.: ARC 16372-1: Inexpensive Cooling Systems for Devices;

NASA Case No.: ARC 16732-1: NanoSat Launch Adapter System (NLAS).

Sumara M. Thompson-King,
Deputy General Counsel.

[FR Doc. 2013-11940 Filed 5-17-13; 8:45 am]

BILLING CODE 7510-13-P